FEDERAL ELECTION COMMISSION

Sunshine Act Notices

AGENCY: Federal Election Commission.

Date & time: Tuesday, June 3, 2003, at 10 a.m.

Place: 999 E Street, NW., Washington, DC.

Status: This meeting will be closed to the public.

Items to be discussed:

Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date & time: Wednesday, June 4, 2003, at 10 a.m.

Place: 999 E Street, NW., Washington, DC (Ninth Floor).

Status: This oral hearing will be open to the public.

Matter before the Commission: Keyes 2000, Inc., Committee (LRA #570).

Date & time: Thursday, June 5, 2003 at 10 a.m.

Place: 999 E Street, NW., Washington, DC (Ninth Floor).

Status: This meeting will be open to the public.

Items to be discussed:

Correction and Approval of Minutes.

Administrative Matters.

Date & time: Friday, June 6, 2003 at 10 a.m.

Place: 999 E Street, NW., Washington, DC (Ninth Floor).

Status: This hearing will be open to the public.

Matters before the Commission: Public financing of Presidential candidates and nominating conventions.

FOR FURTHER INFORMATION CONTACT: Mr. Ron Harris, Press Officer, Telephone: (202) 694-1220.

Mary W. Dove,
Secretary of the Commission.

[FR Doc. 03-13587 Filed 5-27-03; 2:32 pm]

BILLING CODE 6715-01-M